OFFICE OF MANAGEMENT AND BUDGET

Announcement of Requirements and Registration for the Digital Service Contracting Professional Training and Development Program Challenge

AGENCY: Office of Management and Budget.

ACTION: Notice.

SUMMARY: The U.S. Digital Service and Office of Federal Procurement Policy (OFPP), as part of the Office of Management and Budget (OMB), give notice of the availability of the “Digital Service Contracting Professional Training and Development Program” prize competition and rules. Through a multi-phased challenge, participants are eligible for prize money up to $360,000.00 under this competition.

In August 2014, the U.S. Digital Service was launched to bring in the country's brightest digital talent to transform how government works for American citizens and businesses by dramatically improving the way government builds and buys digital services.

On December 4, 2014, Anne Rung, Administrator for Federal Procurement Policy, issued a memorandum titled Transforming the Marketplace: Simplifying Federal Procurement to Improve Performance, Drive Innovation, and Increase Savings.¹ In this memorandum, Administrator Rung lays out several initiatives for driving greater innovation and strengthening Federal acquisition practices, one of which is building digital information technology (IT) acquisition expertise.

¹ Available at http://www.whitehouse.gov/sites/default/files/omb/procurement/memo/simplifying-federal-procurement-to-improve-performance-drive-innovation-increase-savings.pdf.

As part of this initiative, OFPP and the U.S. Digital Service are working together to focus on improving the process of IT acquisition, and specifically the acquisition of digital services. OFPP and the U.S. Digital Service recognize the need for improving and simplifying the digital experiences that citizens and businesses have with the Government. Strengthening digital services expertise in the Government is a key component of being able to reduce the risk of failed acquisitions and systems, and save taxpayer dollars. The Digital Service Contracting Professional Training and Development Program prize competition seeks to spur innovation in the training and development of Federal Contracting Professionals who are fundamental to the success of digital service acquisitions. Through program concept white papers, up to three design presentations, and a pilot program, the effectiveness and feasibility of innovative training and development program approaches will be explored.

ADDRESSES: Questions about this prize competition may be emailed to Challenge@omb.eop.gov.

Prize Competition Managers:

Traci Walker—US Digital Service, OMB

Joanie Newhart—OFPP, OMB

SUPPLEMENTARY INFORMATION:

Objective

The goal of this prize competition is to develop a Digital Service Contracting Professional Training and Development Program for the Federal Government, which will be used to add a digital service core-plus specialization for contracting professionals under the Federal Acquisition Certification in Contracting (FAC-C) Program issued by OFPP.² The final results of the challenge will be provided to Federal training institutions, such as the Federal Acquisition Institute (FAI) and Defense Acquisition University (DAU), for those institutions to implement and maintain the program. This program will be one of many initiatives to foster transformative change in the Federal Digital Service acquisition culture.

² http://www.fai.gov/drupal/sites/default/files/2006-1-20-OMB-Memo-FAC-C-Certification.pdf.

No formal contract to any challenge participant will be awarded as a direct result of this prize competition.

The optimal comprehensive training and development program, intended for Federal Contracting Professionals, specifically Contracting Officers and Contract Specialists, will enable them to understand and apply strategic thinking, industry best practices, market place conditions, and appropriate acquisition strategies to the procurement of digital supplies and services. An ideal training and development program will be no longer than 6 months in total, and may include strategies such as rotational assignments, mentoring, in-classroom training, and detail assignments woven into an innovative approach to accomplish the stated objectives. A definition of a successful digital service buyer, novel ideas, leading-edge approaches, and iterative methodologies are highly encouraged in response to this Challenge.

Digital services, as defined by OMB, refers to “the delivery of digital information (data or content) and transactional services (e.g., online forms, benefits applications) across a variety of platforms, devices, and delivery mechanisms (e.g., Web sites, mobile applications, and social media).” Digital services may be delivered to customers either internal or external to the Government, or both.³

³ http://www.whitehouse.gov/digitalgov/digital-services-governance-recommendations.

The primary outcomes of this Digital Service Contracting Professional Training and Development Program are that participating Federal contracting professionals:

• Become digital service procurement experts;

• Are equipped with the knowledge necessary to be imbedded within agency Digital Service teams to serve as a business advisor to the team, its customers, and its stakeholders; and

• Have the knowledge to lead agency training, workshops, and consultations in order to expand digital service procurement expertise within their agency and the government.

Specifically, the program must teach Federal Contracting Professionals how to:

(1) Understand and procure digital services and supplies utilizing concepts such as those described in the Digital Services Playbook ⁴ and the TechFAR ⁵ (e.g, DevOps, UX, Design Services, Agile Software Development, Open Source, Cloud, Iaas, SaaS, and PaaS);

⁴ https://playbook.cio.gov/.

⁵ https://github.com/WhiteHouse/playbook/blob/gh-pages/_includes/techfar-online.md.

(2) Appropriately measure the success of these contracts based on industry standards;

(3) Accurately describe and define the value received; and

(4) Encourage the use of commercial practices and innovative approaches (e.g. modular contracting, broad agency announcements, challenges and prizes) to ensure procurements can capture flexible and rapidly changing technology advancements.

The prize challenge will include three phases. Phase I asks for participants to submit a white paper that describes their concept for a training and development program that will meet the stated objectives. Up to three Phase I submissions will be selected as finalists and move to Phase II. These finalists are awarded $20,000 each in prize money to design in more detail their proposed concept program. At the end of Phase II, these finalists will present their in-depth program designs at an oral presentation and a one hour mock classroom training to a panel of Federal senior leaders. One winner will be selected and moves to Phase III, which requires that participant to develop and pilot its program for approximately 30 students. In Phase III, up to $250,000 in milestone payments will be provided to assist the participant in developing their proposed pilot for a training and development program that can be easily adopted and implemented by the Government. Upon completion of Phase III, the finalist can win up to $50,000 in additional prize money for developing a program that fully met the stated objectives.

The pilot will be held in the Washington, DC area with local students. However, approaches for the proposed program that include virtual components to allow participation of students outside of the Washington, DC area (with some in-person sessions required) and/or self-pacing are highly encouraged, but must also demonstrate cost effectiveness.

Eligibility and Rules for Participating in the Challenge

• To be eligible to win a prize under this Challenge, an individual or entity:

○ Shall have registered to participate in the Challenge under the rules promulgated by OMB and published in this Notice;

○ Shall have complied with all the requirements in this Notice;

○ In the case of a private entity, shall be incorporated in and maintain a primary place of business in the United States, and in the case of an individual, whether participating singly or in a group, shall be a citizen or permanent resident of the United States. Non-U.S. citizens and non-permanent residents are not eligible to win a monetary prize (in whole or in part);

○ In the case of an individual, whether participating singly or in a group, must be at least 18 years old at the time of entry;

○ May not be a Federal entity;

○ OMB reserves the right to disqualify and remove any submission that is deemed, in the judging panel's discretion, inappropriate, offensive, defamatory, and/or demeaning;

○ May not be a Federal employee acting within the scope of his/her employment, and further, and may not work on his or her submission(s) during assigned duty hours;

○ May not be an employee of the US Digital Service, OFPP, a judge of the Challenge, or any other party involved with the design, production, execution, or distribution of the Challenge or the immediate family of such a party (i.e., spouse, parent, step-parent, child, or step-child).

• Federal grantees may not use Federal funds to develop their Challenge submissions unless use of such funds is consistent with the purpose of their grant award and specifically requested to do so due to the Challenge design.

• Federal contractors may not use Federal funds from a contract to develop their Challenge submissions or to fund efforts in support of their Challenge submission.

• Submissions must not infringe upon any copyright or any other rights of any third party. Each participant warrants that he or she is the sole author and owner of the work and that the work is wholly original. It is the responsibility of the participant to obtain any rights necessary to use, disclose, or reproduce any intellectual property owned by third parties and incorporated in the entry for all anticipated uses of the submission. Submissions must not violate or infringe upon the rights of other parties, including, but not limited to, privacy, publicity or intellectual property rights, or material that constitutes copyright or license infringement.

• By participating in this Challenge, each individual (whether competing singly or in a group) and entity agree to assume any and all risks and waive claims against the Federal Government and its related entities (as defined in the COMPETES Act ⁶), except in the case of willful misconduct, for any injury, death, damage, or loss of property, revenue, or profits, whether direct, indirect, or consequential, arising from their participation in the Challenge, whether the injury, death, damage, or loss arises through negligence or otherwise.

⁶ https://www.congress.gov/110/plaws/publ69/PLAW-110publ69.pdf.

• Based on the subject matter of the Challenge, the type of work that it will possibly require, as well as an analysis of the likelihood of any claims for death, bodily injury, or property damage, or loss potentially resulting from Challenge participation, no individual (whether competing singly or in a group) or entity participating in the Challenge is required to obtain liability insurance or demonstrate financial responsibility in order to participate in this Challenge.

• By participating in this Challenge, each individual (whether competing singly or in a group) or entity agrees to indemnify the Federal Government against third party claims for damages arising from or related to Challenge activities.

• An individual or entity shall not be deemed ineligible because the individual or entity used Federal facilities or consulted with Federal employees during the Challenge if the facilities and employees are made available to all individuals and entities participating in the Challenge on an equitable basis.

• Each individual (whether competing singly or in a group) or entity retains title and full ownership in and to their submission and each participant expressly reserves all intellectual property rights (e.g., copyright) in their submission. However, each participant grants to the Federal Government, and others acting on behalf of the Federal Government, a royalty-free non-exclusive worldwide license to use, copy for use, and display publicly all parts of the submission for the purposes of the Challenge and future training and development programs. This license may include posting or linking to the submission on the official OMB Web site and making it available for use by the public.

• OMB reserves the right, in its sole discretion, to (a) cancel, suspend, or modify the Challenge, and/or (b) not award any prizes if no entries are deemed worthy.

• Each individual (whether competing singly or in a group) or entity agrees to follow applicable local, State, and Federal laws and regulations.

• Each individual (whether participating singly or in a group) and entity participating in this Challenge must comply with all terms and conditions of these rules, and participation in this Challenge constitutes each participant's full and unconditional agreement to abide by these rules. Winning is contingent upon fulfilling all requirements herein.

• The Federal government will not provide any travel expenses for participants in the pilot projects.

• Prizes awarded under this Challenge will be paid by electronic funds transfer and may be subject to Federal income taxes. Payment will comply with the Internal Revenue Service withholding and reporting requirements, where applicable. Any entrant on the Excluded Parties List will not be selected as a finalist or prize winner.

Registration and Submission Process

All submissions must include information addressing all of the mandatory elements. Any submission not including all information will not be eligible for award.

All submissions must be in English. Each submission must consist of a PDF file. The PDF documents must be formatted to be no larger than 8.5″ by 11.0″, with at least 1 inch margins. The participant must not use OFPP's or OMB's logo or official seal, or the logo of the U.S. Digital Service in the submission, and must not claim Federal Government endorsement.

Certification: Each submission must include a cover letter that the individual or every member of the team responding has read and consents to be governed by the Challenge Rules and meets the eligibility requirements. This cover letter must be signed and dated by all participants. The following statement must be included:

“I have read and understand the OMB Challenge Rules (“Rules”) for the Digital Service Contracting Professional Training and Development Program prize competition. I hereby agree to abide by such Terms and Rules.

I hereby agree to assume any and all risks and waive claims against the Federal Government and its related entities, except in the case of willful misconduct, for any injury, death, damage, or loss of property, revenue, or profits, whether direct, indirect, or consequential, arising from participation in this prize challenge, whether the injury, death, damage, or loss arises through negligence or otherwise.

I hereby agree to indemnify the Federal Government against third party claims for damages arising from or related to challenge activities.

I certify that I am over the age of 18 and a United States Citizen or a permanent resident.

I hereby grant to the Federal Government, and others acting on behalf of the Federal Government, a royalty-free non-exclusive worldwide license to use, copy for use, and display publicly all parts of the submission for the purposes of the Challenge. This license may include posting or linking to the submission on the official OMB Web site and making it available for use by the public.”

Submission Requirements and Pilot Implementation

This Challenge will be conducted in three phases.

Phase I: Program Concept

Challenge participants will have one month from the date of this Notice to submit a program concept. Those submissions must comply with the requirements provided below. Up to three Phase I submissions may be selected as finalists. The names of the finalists will be posted on the Challenge.gov Web site as will the names of any participants receiving an honorary mention. Honorary mentions may be given to highly ranked submissions that were not identified as one of the final three finalists.

Phase II: Detailed Program Design

The Phase I finalists will receive $20,000 each and will have one month from the date of this award, to transform their program concepts into a detailed program designs, which meet the requirements provided below. One finalist will be selected as the winner of the challenge. The winner's name will be posted on Challenge.gov.

Phase III: Pilot

The challenge winner receives up to $250,000 in milestone payments and will have five months to develop and implement their design with up to 30 government contracting students. Milestone payments will be made based on mutually agreed upon deliverables throughout the pilot based on the accepted design. An initial milestone payment will be determined to assist with the startup costs of the pilot.

OMB will select and provide students for the pilot project. The students in the pilot project will be selected from contracting professionals who are certified at the Federal Acquisition Certification—Contracting (FAC-C) or Defense Acquisition Workforce Improvement Act (DAWIA) Level II or above.⁷ These pilot students are the target demographic for the program, are influential early adopters of new and innovative acquisition strategies, and will have some experience in IT acquisition. These students will have managerial commitment and approval to fully participate and meet the requirements of the pilot; however it is anticipated that pilot participants will be not required to be 100% assigned to the pilots for the entire length of the program, and will remain in their current jobs during the pilot.

⁷ Additional information on the FAC-C program is available at www.fai.gov and the DAWIA program at https://dap.dau.mil/career/cont/Pages/Certification.aspx.

Assignment: In order to help judge the effectiveness of the training and development program, as part of the pilot, the Federal contracting students will be expected to complete a “live” digital service assignment, which could be an actual project, procurement, or agency engagement. OMB will work with the Phase II winner to determine which assignment is best-suited for its specific pilot based on its proposed design.

Phase I Program Concept

Each submission for this Challenge shall consist of a white paper describing the concept for a training and development program that will meet the stated objectives. It must include a concept overview that describes how the proposed program will improve the ability of Contracting Specialists/Officers to purchase digital services. The white paper must detail how the solution will create a competent digital buying contracting workforce and how this workforce will help agencies buy digital services better. The white paper must also include:

○ Outline of major content focus areas with their performance objectives;

○ Suggested instructional strategies for each content area;

○ Overall expected program outcomes and how the concept will meet them.

○ A clear description of what innovative training and development approaches are proposed along with the benefits of those approaches to this program.

○ The type of Government stakeholder input required if the design is selected for the pilot in Phase III.

○ The anticipated cost of the pilot and proposed program and any expected intangible benefits related to the program, or ways to utilize virtual components and/or quantities of scale strategies to leverage the program across the government for Federal Contracting Professionals.

○ A concept for defining and evaluating how well the students have achieved the objectives of the program, including a comprehensive survey for the students and a description of how the digital assignment outcome will be assessed.

Phase II: Program Design

The finalists chosen in Phase I shall prepare a detailed program design, including the following three sections:

• Program Description

○ More details on the major content focus areas with their performance objectives,

○ Comprehensive Syllabus

○ Defined instructional strategies and educational method for each content area,

○ Mock-ups or prototypes,

○ Proposed speaker lists,

○ How a digital assignment will be incorporated into the program,

○ An understanding of how the program components will achieve the desired program outcomes,

• Assessment Plan

○ More details on the planned assessment of how well the students have achieved the objectives of the program;

○ A remediation plan for trainees who do not achieve the goals; and

○ A concept for a Capstone or Practical Skills Test that might be required for certification.

• Anticipated Cost To Implement Program

○ The estimated investment required to implement both the pilot and the resulting program. The pilot would be estimated on a basis of 30 students as will the resulting program. If the pilot is a scaled-down version of the fully-implemented program, the differentiation must be explained.

○ Any expected intangible benefits related to the program, or ways to leverage quantities of scale strategies to facilitate a widespread adoption of the program in the government.

Phase II Oral Proposal

This program design will be presented to the judges through oral proposals. Additionally, a one hour mock classroom training shall be provided to the judges in order for the challengers to demonstrate one aspect of their proposed design. It will be up to the challenger to determine which aspect and method of delivery will best encompass the concept of their proposed design.

Phase III: Program Development and Pilot

In this phase, the training and development program is developed and major components are piloted by the Phase II winner with up to 30 students to validate the content, feasibility, instructional strategies, and expected outcomes of the training program. There shall be complete lesson plans, participant materials, mock-ups and prototypes, and training aids to test during the pilot delivery. The pilot program delivery is the “test drive” of the proposed challenge solution to determine whether it meets expected outcomes. In addition to the students assigned to the pilot, OMB will provide key stakeholders and government subject matter experts who can provide other limited assistance required to develop and pilot the program as requested by the challenger in Phases I and II. OMB will assist the Phase II winner with the identification of current Procurements/Projects/Digital Service teams that students will be assigned to work on during the course of the pilot. The nature of the assignment chosen will be based on a discussion between the Phase II winner and OMB during pilot program preparation. Sample assignments might include:

• Conducting a solicitation from Request For Proposal to Award to establish a Federal-wide Blanket Purchase Agreement.

• Working with a Digital Service Agency team on drafting a Request for Proposal.

• Assisting GSA's 18F with a consulting effort and resulting acquisition.

• Drafting a Digital Service Agency team's acquisition strategy for multiple projects/acquisitions.

Submission shall include an end user survey to be delivered to the students based on the proposed program concept which will be used to determine how confident the participants are in their ability to apply the knowledge and skills learned.

Final Submission: Results of Pilot and Update of Proposed Program

Upon completion of the pilot, the following information shall be provided to OMB by January 31, 2016 to help OMB judge the outcome of the proposed training and development program:

○ Results of the assessment of how well the students achieved the objectives of the proposed program, and update of the proposed remediation plan and concept for a Capstone or Practical Skills Test that might be required for certification;

○ Any logistical problems that surfaced in the execution of the pilot (this could relate to scheduling challenges, absenteeism on behalf of the participants, physical or logical roadblocks encountered), including what was done to resolve the problems, or what should be done if a scaled program were to be implemented to ensure success;

○ The pilot's actual cost breakdown including contract services, equipment, facilities, hardware, software, training materials, as it relates to the proposed submission (this could include return on investment evaluations and alternative analyses);

○ An accountability report that captures how well the pilot was executed (pilot's projected cost breakdown compared to the actual cost breakdown) and how quality was measured to get the expected results of the pilot.

○ The documented program design incorporating lessons learned and any changes made to the design initially proposed;

○ The final estimated investment required to implement the proposed program; and

○ A description of how Return on Investment (ROI) should be monitored (e.g., linkage to performance metrics, etc.).

Evaluation Process

The evaluation process will begin by removing those that are not responsive to this Challenge or not in compliance with all rules of eligibility. Judges will examine all responsive and compliant submissions, and rate the entries. Judges will determine the most meritorious submissions based on these ratings and select up to three finalists to include in Phase II—Program Design.

Honorable Mentions may be included as non-monetary prizes and announced along with the winners on Challenge.gov.

Phase I: Program Concept Submission

The judging panel will rate each submission based upon the effectiveness of the overall concept to help foster transformative change in the Federal Digital Service acquisition culture, the viability of the proposed program, the anticipated cost and its reasonableness, the effectiveness of the proposed assessment of the pilot, the innovativeness of the approach, and its potential for achieving the objectives of the program.

Phase II: Program Design

Evaluation will be based on the following criteria:

Overall Effectiveness of the Proposed Program Design

○ This factor examines the quality of the design and the mock classroom experience and how it demonstrates how the proposed training solution will help participants learn the skills and concepts that are desired outcomes for this program. It also examines the creativity and innovativeness of the program.

Overall Assessment Capability

○ This factor examines the effectiveness of the proposed assessment capability, including whether the data collection, tracking, and analysis methods proposed demonstrate the participants' ability to meet the program objectives.

Feasibility of Implementation

○ This factor examines whether the relative cost of implementation is reasonable and commensurate with the caliber of the proposed solution and whether the concept can be scaled and modified to suit local resources and constraints in terms of number of participants.

Scores from each criterion will be weighted equally.

Phase III: Pilot Development and Implementation

Evaluation of the effectiveness of the proposed program will be based on the final submission and on the following criteria:

Results of Assessment of Pilot and Proposed Program

○ This criteria examines whether the skills students learned through the pilot met the objectives of the program and whether or not students demonstrated confidence in their ability to apply the knowledge and skills learned. This includes whether the students indicated an understanding of how to procure Digital Services utilizing concepts such as those described in the Digital Service Playbook and the TechFAR, how to appropriately measure the success of contracts, how to accurately describe and define the value received, and how to encourage the use of commercial practices and innovative approaches to ensure procurements can capture flexible and rapidly changing technology advancements.

○ This criteria also examines the likelihood of the proposed program to meet the program objectives.

Expected Return on Investment

○ This criteria examines the benefits of the pilot and the proposed program as compared to the cost. Judges may examine the cost effectiveness of the proposed program compared to alternatives. Judges may examine expected intangible benefits related to the pilot.

○ This criteria also examines the accountability report.

The winner of the challenge will be eligible for an additional prize of $50,000.00 based upon the results of the evaluation of the final submission.

Authority: 15 U.S.C. 3719.Dated:

Dated: June 9, 2015.
Joanie F. Newhart,
Office of Federal Procurement Policy, OMB.

[FR Doc. 2015-14683 Filed 6-15-15; 8:45 am]

BILLING CODE 3110-05-P